FEDERAL COMMUNICATIONS COMMISSION

Notice of Public Information Collection(s) Being Reviewed by the Federal Communications Commission, Comments Requested

July 18, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before September 24, 2001. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval No.: 3060-0654.

Title: Application for a Multipoint Distribution Service Authorization.

Form No.: FCC 304.

Type of Review: Revision of currently approved collection.

Respondents: Businesses or other for-profit.

Number of Respondents: 200.

Estimated Hours Per Response: 19 hours (1 hour respondent, 16 hours consulting engineer, 2 hours contract attorney).

Frequency of Response: On occasion.

Cost to Respondents: $602,000.

Estimated Total Annual Burden: 200 hours.

Needs and Uses: The FCC 304 will be used by existing MDS operators to modify their stations or to add a signal booster station. It will also be used by some winning bidders in the competitive bidding process to propose facilities to provide wireless cable service over any usable MDS channels within their Basic Trading Area (BTA). This collection of information also includes the burden for the technical rules involving the interference or engineering analysis and service requirements under sections 21.902, 21.913 and 21.938. These analyses will not be submitted with the application but will be retained by the operator and must be made available to the Commission upon request. The data is used by FCC staff to ensure that the applicant is legally, technically and otherwise qualified to become a Commission licensee. MDS/ITFS applicants/licensees will need this information to perform the necessary analyses of the potential for harmful interference to their facility. The Commission will require this form to be filed electronically thirty days after the issuance of a public notice.

OMB Number: 3060-0171.

Title: Section 73.1125 Station main studio location.

Form Number: None.

Type of Review: Extension of currently approved collection.

Respondents: Business or other for-profit.

Number of Respondents: 135.

Estimated hours per response: 0.5-5 hours (0.5 hours respondent-notification; 2 hours respondent, 1 hour contract attorney, 2 hours consulting engineer-explanatory letter).

Frequency of response: Reporting, on occasion.

Cost to respondents: $12,550.

Estimated total annual burden: 83 hours.

Needs and Uses: Section 73.1125(a) requires AM, FM or TV licensees to locate their main studio at any point that is within either the principal community contour of any station licensed to its community of license or 25 miles from the reference coordinates of the center of its community of license. If the station relocates its main studio from one point to another within the principal community contour or from a point outside the principal community contour to one within it, the licensee is required to notify the FCC pursuant to Section 73.1125(d)(1). In addition, where the main studio is already authorized at a location outside the locations specified in (a), and the licensee desires to specify a new location also located outside those locations, written authority must be sought and received from the Commission prior to relocation of the main studio. This written authority is sought by the filing an explanatory letter with the Commission. The data is used by FCC staff to assure that the station main studio is located within the principal community contour of any station licensed to the community of license or 25 miles from the reference coordinates of the center of its community of license. The explanatory letter is used by FCC staff to determine whether the circumstances are sufficient to warrant a waiver of the Commission's main studio rules.

OMB Number: 3060-0215.

Title: Section 73.3527 Local Public Inspection File of Noncommercial Educational Stations.

Form Number: None.

Type of Review: Extension of currently approved collection.

Affected Public: Not for-profit institutions.

Number of Respondents: 2,515 noncommercial radio/television licensees recordkeepers.

Estimated time per response: 104 hours per year.

Frequency of response: Recordkeeping.

Cost to respondents: $0.

Total annual burden: 261,575.

Needs and Uses: Section 73.3527 requires that each licensee/permittee of a noncommercial broadcast station maintain a file for public inspection at its main studio or at another accessible location in its community of license. The contents of the file vary according to type of service and status. The contents include, but are not limited to, copies of certain applications tendered for filing, a statement concerning petitions to deny filed against such applications, copies of ownership reports and annual employment reports, statements certifying compliance with filing announcements in connection with renewal applications, a list of donors supporting specific programs, etc.

In addition, Section 73.3527(a)(7) requires that each broadcast licensee of a noncommercial educational station place in a public inspection file a list of community issues addressed by the station's programming. This list is kept on a quarterly basis and contains a brief description of how each issue was treated. This rule also specifies the length of time, which varies by document type, that each record must be retained in the public file. The data is used by the public and FCC to evaluate information about the licensee's performance and to ensure that station is addressing issues concerning the community to which it is licensed to serve.

OMB Approval No.: 3060-0664.

Title: Certification of Completion of Construction for a Multipoint Distribution Service Station.

Form No.: FCC 304-A.

Type of Review: Revision of currently approved collection.

Respondents: Businesses or other for-profit.

Number of Respondents: 500.

Estimated Hours Per Response: 0.5 hours.

Frequency of Response: On occasion.

Cost to Respondents: $0.

Estimated Total Annual Burden: 250 hours Needs and Uses: The FCC 304A will be used to certify that the facilities as authorized in the FCC 304 have been completed and that the station is now operational, ready to provide service to the public. Each license will specify as a condition that upon the completion of construction, the licensee must file with the Commission an FCC 304A, certifying that the facilities as authorized have been completed and that the station is now operational and ready to provide service to the public. The conditional license shall be automatically forfeited upon the expiration of the construction period specified in the license unless within 5 days after that date an FCC 304A has been filed with the Commission. The Commission will require this form to be filed electronically thirty days after the issuance of a public notice.

Federal Communications Commission.
William F. Caton,
Deputy Secretary.

[FR Doc. 01-18438 Filed 7-24-01; 8:45 am]

BILLING CODE 6712-01-P